DEPARTMENT OF COMMERCE

International Trade Administration

[A-403-805]

Silicon Metal From Norway: Affirmative Final Determination of Sales at Less Than Fair Value, Final Determination of No Sales, and Final Negative Determination of Critical Circumstances

AGENCY: Enforcement and Compliance, International Trade Administration, Department of Commerce.

SUMMARY: The Department of Commerce (Commerce) determines that imports of silicon metal from Norway are being, or are likely to be, sold in the United States at less than fair value (LTFV). In addition, we determine that critical circumstances do not exist with respect to imports of the subject merchandise. The period of investigation (POI) is January 1, 2016, through December 31, 2016. The final dumping margins of sales at LTFV are listed below in the “Final Determination” section of this notice.

DATES: Applicable March 8, 2018.

FOR FURTHER INFORMATION CONTACT: Brittany Bauer, AD/CVD Operations, Office II, Enforcement and Compliance, International Trade Administration, U.S. Department of Commerce, 1401 Constitution Avenue NW, Washington, DC 20230; telephone: (202) 482-3860.

SUPPLEMENTARY INFORMATION:

Background

On October 12, 2017, Commerce published the Preliminary Determination of sales at LTFV of silicon metal from Norway.¹ Commerce exercised its discretion to toll deadlines affected by the closure of the Federal Government from January 20 through 22, 2018. If the new deadline falls on a non-business day, in accordance with Commerce's practice, the deadline will become the next business day. The revised deadline for the final determination of this investigation is now February 27, 2018.² A summary of the events that occurred since Commerce published the Preliminary Determination, as well as a full discussion of the issues raised by parties for this final determination, may be found in the Issues and Decision Memorandum, which is adopted by this notice.³

¹ See Silicon Metal From Norway: Preliminary Affirmative Determination of Sales at Less Than Fair Value, Preliminary Negative Determination of Critical Circumstances, Preliminary Determination of No Shipments, Postponement of Final Determination, and Extension of Provisional Measures, 82 FR 47475 (October 12, 2016) (Preliminary Determination) and accompanying Preliminary Decision Memorandum.

² See Memorandum for The Record from Christian Marsh, Deputy Assistant Secretary for Enforcement and Compliance, performing the non-exclusive functions and duties of the Assistant Secretary for Enforcement and Compliance, “Deadlines Affected by the Shutdown of the Federal Government,” dated January 23, 2018. All deadlines in this segment of the proceeding have been extended by 3 days.

³ See Memorandum, “Issues and Decision Memorandum for the Final Affirmative Determination in the Less-Than-Fair-Value Investigation of Silicon Metal From Norway,” dated concurrently with, and hereby adopted by, this notice (Issues and Decision Memorandum).

Scope of the Investigation

The product covered by this investigation is silicon metal from Norway. For a full description of the scope of this investigation, see the “Scope of the Investigation” in Appendix I of this notice.

Scope Comments

During the course of this investigation, Commerce received numerous scope comments from interested parties. Prior to the Preliminary Determination, Commerce issued a Preliminary Scope Decision Memorandum ⁴ to address these comments. Since the Preliminary Determination, Globe Specialty Metals, Inc., (the petitioner) submitted a case brief and interested parties submitted rebuttal briefs concerning the limits to silicon content as specified in the scope.⁵

⁴ See Memorandum, “Silicon Metal from Australia, Brazil, Kazakhstan, and Norway: Scope Comments Decision Memorandum for the Preliminary Determinations,” dated June 29, 2017 (Preliminary Scope Decision Memorandum).

⁵ These parties include Wacker Chemicals Norway A.S., Elkem AS, and the petitioner.

Commerce reviewed these briefs, considered the arguments therein, and is not making any additional changes to the scope of the investigation. For further discussion, see Commerce's Final Scope Decision Memorandum.⁶ The scope in Appendix I reflects the final scope language.

⁶ See Memorandum “Silicon Metal from Australia, Brazil, Kazakhstan, and Norway: Final Scope Comments Decision Memorandum,” dated February 27, 2018 (Final Scope Decision Memorandum).

Analysis of Comments Received

All issues raised in the case and rebuttal briefs by parties in this investigation are addressed in either the Final Scope Decision Memorandum or the Issues and Decision Memorandum accompanying this notice. A list of the issues addressed in the Issues and Decision Memorandum is attached to this notice as Appendix II. The Issues and Decision Memorandum is a public document and is on file electronically via Enforcement and Compliance's Antidumping and Countervailing Duty Centralized Electronic Service System (ACCESS). ACCESS is available to registered users at https://access.trade.gov, and it is available to all parties in the Central Records Unit, room B-8024 of the main Department of Commerce building. In addition, a complete version of the Issues and Decision Memorandum can be accessed directly at http://enforcement.trade.gov/frn/index.html. The signed and electronic versions of the Issues and Decision Memorandum are identical in content.

Verification

As provided in section 782(i) of the Tariff Act of 1930, as amended, (the Act) in October and November 2017, we conducted verification of the sales and cost information submitted by Elkem AS (Elkem) for use in our final determination. We used standard verification procedures, including an examination of relevant accounting and production records, and original source documents provided by Elkem.⁷ In addition, as provided in section 782(i) of the Act, in October 2017, we also verified the no sales claim submitted by Wacker Chemicals Norway A.S. (Wacker), using standard verification procedures.

⁷ For discussion of our verification findings, see the following memoranda: Memorandum, “Verification of the No Shipment Claim of Wacker Chemicals Norway A.S. in the Antidumping Duty Investigations of Silicon Metal from Norway,” dated November 6, 2017; Memorandum, “Verification of the Sales Response of Elkem AS in the Antidumping Duty Investigation of Silicon Metal from Norway,” dated December 1, 2017; Memorandum, “Verification of the Sales Response of Elkem Materials Inc. in the Antidumping Duty Investigation of Silicon Metal from Norway,” dated December 1, 2017; and Memorandum, “Verification of the Cost Response of Elkem AS in the Antidumping Duty Investigation of Silicon Metal from Norway,” dated December 7, 2017.

Changes Since the Preliminary Determination

Based on our analysis of the comments received and our findings at verification, we made certain changes to the margin calculations for Elkem. For a discussion of these changes, see the “Margin Calculations” section of the Issues and Decision Memorandum.

Final Determination of No Sales

As noted in the Preliminary Determination, we preliminarily determined that Wacker had no sales of subject merchandise during the POI.⁸ In October 2017, we verified the no sales claim submitted by Wacker.⁹ After issuing the Preliminary Determination, Commerce received no comments from interested parties regarding this issue, and has not received any information that would cause it to alter its Preliminary Determination. Therefore, because the record indicates that Wacker did not sell subject merchandise to the United States, Commerce continues to find that Wacker had no sales of subject merchandise during the POI.

⁸ See Preliminary Determination, at 47476.

⁹ See Memorandum, “Verification of the No Shipment Claim of Wacker Chemicals Norway A.S. in the Antidumping Duty Investigation of Silicon Metal from Norway,” dated November 6, 2017.

Final Negative Determination of Critical Circumstances

For the Preliminary Determination, Commerce found that critical circumstances do not exist with respect to imports of silicon metal from Elkem, as well as “all other” producers and exporters of subject merchandise.¹⁰ In this final determination, Commerce continues to find that, in accordance with 735(a)(3) of the Act, critical circumstances do not exist for Elkem or “all other” producers and exporters (including Wacker) in this investigation. A discussion of the determination can be found in the “Negative Determination of Critical Circumstances” section of the Issues and Decision Memorandum.

¹⁰ See Preliminary Determination, and accompanying Preliminary Decision Memorandum, at 15-18.

All-Others Rate

Section 735(c)(5)(A) of the Act provides that the estimated weighted-average dumping margin for all other producers and exporters shall be equal to the weighted average of the estimated weighted-average dumping margins established for exporters and producers individually investigated excluding rates that are zero, de minimis margins or determined entirely under section 776 of the Act. Elkem is the only respondent for which Commerce calculated an estimated weighted-average dumping margin that is not zero, de minimis, or based entirely on facts otherwise available. Therefore, for purposes of determining the “all-others” rate and pursuant to section 735(c)(5)(A) of the Act, we are using the estimated weighted-average dumping margin calculated for Elkem, as referenced in the “Final Determination” section below.

Final Determination

The final estimated weighted-average dumping margins are as follows:

Exporter or producer | Weighted- average dumping margin (percent)
Elkem AS | 3.22
All Others | 3.22

Disclosure

We will disclose the calculations performed within five days of the date of publication of this notice to parties in this proceeding in accordance with 19 CFR 351.224(b).

Continuation of Suspension of Liquidation

In accordance with section 735(c)(1)(B) of the Act, for this final determination, we will direct U.S. Customs and Border Protection (CBP) to continue to suspend liquidation of all entries of silicon metal from Norway, as described in Appendix I of this notice, which are entered, or withdrawn from warehouse, for consumption on or after October 12, 2017, the date of publication in the Federal Register of the affirmative Preliminary Determination. Further, we will instruct CBP to require a cash deposit equal to the estimated weighted-average dumping margins indicated in the chart above.¹¹ These suspension of liquidation instructions will remain in effect until further notice.

¹¹ See Modification of Regulations Regarding the Practice of Accepting Bonds During the Provisional Measures Period in Antidumping and Countervailing Duty Investigations, 76 FR 61042 (October 3, 2011).

International Trade Commission Notification

In accordance with section 735(d) of the Act, we will notify the International Trade Commission (ITC) of the final affirmative determination of sales at LTFV. Because Commerce's final determination is affirmative, in accordance with section 735(b)(2) of the Act, the ITC will make its final determination as to whether the domestic industry in the United States is materially injured, or threatened with material injury, by reason of imports, or sales (or the likelihood of sales) for importation of silicon metal from Norway no later than 45 days after this final determination. If the ITC determines that such injury does not exist, this proceeding will be terminated and all cash deposits will be refunded or canceled. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice serves as a reminder to parties subject to an administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

Notification to Interested Parties

This determination and this notice are issued and published pursuant to sections 735(d) and 777(i)(1) of the Act and 19 CFR 351.210(c).

Dated: February 27, 2018.
Christian Marsh,
Deputy Assistant Secretary for Enforcement and Compliance.

Appendix I—Scope of the Investigation

The scope of this investigation covers all forms and sizes of silicon metal, including silicon metal powder. Silicon metal contains at least 85.00 percent but less than 99.99 percent silicon, and less than 4.00 percent iron, by actual weight. Semiconductor grade silicon (merchandise containing at least 99.99 percent silicon by actual weight and classifiable under Harmonized Tariff Schedule of the United States (HTSUS) subheading 2804.61.0000) is excluded from the scope of this investigation.

Silicon metal is currently classifiable under subheadings 2804.69.1000 and 2804.69.5000 of the HTSUS. While HTSUS numbers are provided for convenience and customs purposes, the written description of the scope remains dispositive.

Appendix II—List of Topics Discussed in the Issues and Decision Memorandum

I. Summary

II. Background

III. Critical Circumstances

IV. Scope of the Investigation

V. Margin Calculations

VI. Discussion of the Issues

1. Offset Cost of Manufacture for Miscellaneous Income Items

2. Commerce Should Adjust G&A Expenses to Reflect Total Miscellaneous Income

3. Whether to Calculate the G&A Expense Rate On a Company- or Division-Specific Basis

4. Elkem High Purity Silicon Grades

5. Constructed Export Price Offset

6. Weight Basis for International Freight Expenses

7. Pre-POI Merchandise Storage Costs

8. Marine Insurance Ministerial Error

9. Corrections Found at Verification

VII. Recommendation

[FR Doc. 2018-04666 Filed 3-7-18; 8:45 am]

BILLING CODE 3510-DS-P